DEPARTMENT OF COMMERCE

Foreign-Trade Zones Board

[S-16-2017]

Foreign-Trade Zone 20—Norfolk, Virginia; Application for Expansion of Subzone 20E; STIHL Incorporated; Virginia Beach, Virginia

An application has been submitted to the Foreign-Trade Zones Board (the Board) by the Virginia Port Authority, grantee of FTZ 20, requesting the expansion of Subzone 20E to include an additional site of STIHL Incorporated, located in Virginia Beach, Virginia. The application was submitted pursuant to the provisions of the Foreign-Trade Zones Act, as amended (19 U.S.C. 81a-81u), and the regulations of the Board (15 CFR part 400). It was formally docketed on February 6, 2017.

Subzone 20E was approved on April 24, 2009 (Board Order 1612, 74 FR 21623, May 8, 2009) and consists of five sites (86.56 acres). They are as follows: Site 1 (47.02 acres)—536 Viking Drive, Virginia Beach; Site 2 (19.52 acres)—2525 International Parkway, Virginia Beach; Site 3 (7.14 acres)—601 Central Drive, Virginia Beach; Site 4 (10.26 acres)—825 London Bridge Road, Virginia Beach; and, Site 5 (2.62 acres)—528 Viking Drive, Virginia Beach. The applicant is requesting authority to expand the subzone to include an additional site: Proposed Site 6 (45 acres)—2600 International Parkway, Virginia Beach. The existing subzone and the proposed site would be subject to the existing activation limit of FTZ 20. No additional authorization for production activity has been requested at this time.

In accordance with the Board's regulations, Kathleen Boyce of the FTZ Staff is designated examiner to review the application and make recommendations to the Executive Secretary.

Public comment is invited from interested parties. Submissions shall be addressed to the Board's Executive Secretary at the address below. The closing period for their receipt is April 3, 2017. Rebuttal comments in response to material submitted during the foregoing period may be submitted during the subsequent 15-day period to April 18, 2017.

A copy of the application will be available for public inspection at the Office of the Executive Secretary, Foreign-Trade Zones Board, Room 21013, U.S. Department of Commerce, 1401 Constitution Avenue NW., Washington, DC 20230-0002, and in the “Reading Room” section of the Board's Web site, which is accessible via www.trade.gov/ftz. For further information, contact Kathleen Boyce at Kathleen.Boyce@trade.gov or (202) 482-1346.

Dated: February 6, 2017.
Andrew McGilvray,
Executive Secretary.

[FR Doc. 2017-03437 Filed 2-21-17; 8:45 am]

BILLING CODE 3510-DS-P